FEDERAL MARITIME COMMISSION

Ocean Transportation Intermediary License; Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR 515.

License No. | Name/address | Date reissued
4595N | Claudia C. Mayorga dba Majestic, Freight Forwarders Service, 16310 Los Alimos Street Granada Hills, CA 91344 | June 14, 2001.
3262F | GES Logistics, Inc., 235 E. Broadway, Suite 311, Long Beach, CA 90802 | February 21, 2001.
16633F | Uniship, Inc., 320 Pine Avenue, Suite 400, Long Beach, CA 90802 | July, 4, 2001.

Sandra L. Kusumoto,
Director, Bureau of Consumer Complaints and Licensing.

[FR Doc. 01-22444 Filed 9-6-01; 8:45 am]

BILLING CODE 6730-01-P